DEPARTMENT OF DEFENSE

Office of the Secretary

[Docket ID: DOD-2009-OS-0084]

Privacy Act of 1974; System of Records

AGENCY: Defense Information Systems Agency, DoD.

ACTION: Notice to alter a System of Records.

SUMMARY: Defense Information Systems Agency proposes to alter a system of records notice in its existing inventory of records systems subject to the Privacy Act of 1974 (5 U.S.C. 552a), as amended.

DATES: This proposed action will be effective without further notice on July 16, 2009 unless comments are received which result in a contrary determination.

ADDRESSES: Send comments to the Defense Information Systems Agency, 5600 Columbia Pike, Room 933-I, Falls Church, VA 22041-2705.

FOR FURTHER INFORMATION CONTACT: Ms. Jeanette M. Weathers-Jenkins at (703) 681-2103.

SUPPLEMENTARY INFORMATION: The Defense Information Systems Agency systems of records notices subject to the Privacy Act of 1974 (5 U.S.C. 552a), as amended, have been published in the Federal Register and are available from the address above.

The proposed system reports, as required by 5 U.S.C. 552a(r), of the Privacy Act of 1974, as amended, were submitted on June 5, 2009, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 8, 2009.
Morgan E. Frazier,
Alternate OSD Federal Register Liaison Officer, Department of Defense.

K890.03

SYSTEM NAME:

Military Awards Case History File (February 22, 1993, 58 FR 10562).

CHANGES:

* * * * *

SYSTEM LOCATION:

Delete entry and replace with “Military Personnel Division, Manpower, Personnel, and Security Directorate, HQ, Defense Information Systems Agency, 701 S. Courthouse Rd., Arlington, VA 22204-4502 and organizational elements that maintained records for the Joint Military Award approval authorities.

Official mailing addresses are published as an appendix to the DoD Component's compilation of system of records notices.”

CATEGORIES OF INDIVIDUALS COVERED BY THE SYSTEM:

Delete entry and replace with “Military members assigned to the Defense Information Systems Agency (DISA) that have been recommended and/or received an award that was approved by the Director, Vice Director, Chief of Staff, or other Joint Awards approval authorities.”

CATEGORIES OF RECORDS IN THE SYSTEM:

Delete entry and replace with “Individual's name, Social Security Number (SSN), organization name, telephone number, and office symbol, citation, orders, biographical summary sheet, minutes of the awards board meetings, award recommendation (DISA Form 530), narrative justification, personnel briefs, memorandums, and similar relevant information.”

AUTHORITY FOR MAINTENANCE OF THE SYSTEM:

Delete entry and replace with “DoD 1348.33-M, Manual of Military Decorations and Awards; AR 600-8-22, Military Awards; SECNAVINST 1650.1G, Navy and Marine Corps Awards Manual; AFI 36-2803, The Air Force Awards and Decorations Program; 10 U.S.C. 1121, Legion of Merit: Award and E.O. 9397 (SSN).”

PURPOSE(S):

Delete entry and replace with “Used by the DISA awards personnel to manage the awards program of this Agency and the information that the Department of Defense uses to grant or deny joint awards.”

* * * * *

STORAGE:

Delete entry and replace with “Paper records in file folders and electronic storage media.”

RETRIEVABILITY:

Delete entry and replace with “Individual's name and Social Security Number (SSN).”

* * * * *

RETENTION AND DISPOSAL:

Delete entry and replace with “For Approval Authorities: Military Awards Record Sets are kept on file for 15 years. Destroyed upon the 16th year after the approval, disapproval, or downgrade of the award.

For Non-Approval Authorities: Military Awards Record Sets are kept on file for 2 years. Destroyed upon the 3rd year of receipt of the approval, disapproval, or downgrade of the award.”

SYSTEM MANAGER(S) AND ADDRESS:

Delete entry and replace with “The Defense Information Systems Agency Joint Military Awards Manager, Defense Information Systems Agency, Defense Information Systems Agency, 701 S. Courthouse Rd., Arlington, VA 22204-4502.”

NOTIFICATION PROCEDURE:

Delete entry and replace with “Individuals seeking to determine whether information about themselves is contained in this system should address written inquiries to the Joint Military Awards Manager, Attn: Military Personnel Division/MPS2E, HQ, Defense Information Systems Agency, 701 S. Courthouse Rd., Arlington, VA 22204-4502.

Requests should contain individual's name, rank, and Social Security Number (SSN).

The requester may visit the Military Personnel Division, MPS2E, HQ, Defense Information Systems Agency, 701 S. Courthouse Rd., Arlington, VA 22204-4502. As proof of identity the requester will present their U.S. Armed Forces ID Card or Common Access Card (CAC).”

RECORD ACCESS PROCEDURES:

Delete entry and replace with “Individuals seeking access to information about themselves contained in this system should address written inquiries to the Joint Military Awards Manager, Defense Information Systems Agency, 701 S. Courthouse Rd., Arlington, VA 22204-4502.

Requests should contain individual's name, rank, and Social Security Number (SSN).

The requester may visit the Military Personnel Division, MPS2E, HQ, Defense Information Systems Agency, 701 S. Courthouse Rd., Arlington, VA 22204-4502. As proof of identity the requester will present their U.S. Armed Forces ID Card or Common Access Card (CAC).”

CONTESTING RECORD PROCEDURES:

Delete entry and replace with “DISA's rules for accessing records, for contesting contents and appealing initial agency determinations are published in DISA Instruction 220-25-8; or may be obtained from the system manager.”

RECORD SOURCE CATEGORIES:

Delete entry and replace with “Individual, military recommendations, and military reports and forms.”

* * * * *

K890.03

SYSTEM NAME:

Awards Case History File.

SYSTEM LOCATION:

Military Personnel Division, Manpower, Personnel, and Security Directorate, HQ, Defense Information Systems Agency, 701 S. Courthouse Rd, Arlington, VA 22204-4502 and organizational elements that maintained records for the Joint Military Award approval authorities.

Official mailing addresses are published as an appendix to the DoD Component's compilation of system of records notices.

CATEGORIES OF INDIVIDUALS COVERED BY THE SYSTEM:

Military members assigned to the Defense Information Systems Agency (DISA) that have been recommended and/or received an award that was approved by the Director, Vice Director, Chief of Staff, or other Joint Awards approval authorities.

CATEGORIES OF RECORDS IN THE SYSTEM:

Individual's name, Social Security Number (SSN), organization name, telephone number, and office symbol, citation, orders, biographical summary sheet, minutes of the awards board meetings, award recommendation (DISA Form 530), narrative justification, personnel briefs, memorandums, and similar relevant information.

AUTHORITY FOR MAINTENANCE OF THE SYSTEM:

DoD 1348.33-M, Manual of Military Decorations and Awards; AR 600-8-22, Military Awards; SECNAVINST 1650.1G, Navy and Marine Corps Awards Manual; AFI 36-2803, The Air Force Awards and Decorations Program; 10 U.S.C. 1121, Legion of Merit: Award and E.O. 9397 (SSN).

PURPOSE(S):

Used by the DISA awards personnel to manage the awards program of this Agency and the information that the Department of the Defense uses to grant or deny joint awards.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the DISA's compilation of systems of records notices apply to this system.

POLICIES AND PRACTICES FOR STORING, RETRIEVING, ACCESSING, RETAINING, AND DISPOSING OF RECORDS IN THE SYSTEM:

STORAGE:

Paper records in file folders and electronic storage media.

RETRIEVABILITY:

Individual's name and Social Security Number (SSN).

SAFEGUARDS:

Building employs security guards. Records are maintained in area which is accessible only to authorized personnel that are properly screened, cleared, and their duties require them to be in the area where the records are maintained.

RETENTION AND DISPOSAL:

For Approval Authorities: Military Awards Record Sets are kept on file for 15 years. Destroyed upon the 16th year after the approval, disapproval, or downgrade of the award.

For Non-Approval Authorities: Military Awards Record Sets are kept on file for 2 years. Destroyed upon the 3rd year of receipt of the approval, disapproval, or downgrade of the award.

SYSTEM MANAGER(S) AND ADDRESS:

The Defense Information Systems Agency Joint Military Awards Manager, Defense Information Systems Agency, 701 S. Courthouse Rd., Arlington, VA 22204-4502.

NOTIFICATION PROCEDURE:

Individuals seeking to determine whether information about themselves is contained in this system should address written inquiries to the Joint Military Awards Manager, Attn: Military Personnel Division/MPS2E, HQ, Defense Information Systems Agency, 701 S. Courthouse Rd., Arlington, VA 22204-4502.

Requests should contain individuals' name, rank, and Social Security Number (SSN).

The requester may visit the Military Personnel Division, MPS2E, HQ, Defense Information Systems Agency, 701 S. Courthouse Rd., Arlington, VA 22204-4502. As proof of identity the requester will present their U.S. Armed Forces ID Card or Common Access Card (CAC).

RECORD ACCESS PROCEDURES:

Individuals seeking access to information about themselves contained in this system should address written inquiries to the Joint Military Awards Manager, Defense Information Systems Agency, 701 S. Courthouse Rd., Arlington, VA 22204-4502.

Requests should contain individuals' name, rank, and Social Security Number (SSN).

The requester may visit the Military Personnel Division, MPS2E, HQ, Defense Information Systems Agency, 701 S. Courthouse Rd., Arlington, VA 22204-4502. As proof of identity the requester will present their U.S. Armed Forces ID Card or Common Access Card (CAC).

CONTESTING RECORD PROCEDURES:

DISA's rules for accessing records, for contesting contents and appealing initial agency determinations are published in DISA Instruction 220-25-8, or may be obtained from the system manager.

RECORD SOURCE CATEGORIES:

Individual, military recommendations, and military reports and forms.

EXEMPTIONS CLAIMED FOR THE SYSTEM:

None.

[FR Doc. E9-14099 Filed 6-15-09; 8:45 am]

BILLING CODE 5001-06-P